GENERAL SERVICES ADMINISTRATION

[Notice-P-2024-01; Docket No. 2024-0002; Sequence No. 37]

Notice of Availability of a Final Environmental Impact Statement for the Alcan Land Port of Entry Expansion and Modernization in Alcan, Alaska

AGENCY: Public Buildings Service, U.S. General Services Administration (GSA).

ACTION: Notice of Availability (NOA).

SUMMARY: This notice announces the availability of a Final Environmental Impact Statement (FEIS) that analyzes the potential environmental effects from the proposed expansion and modernization of the Alcan Land Port of Entry (LPOE) in Alcan, Alaska.

DATES: The FEIS Wait Period begins with publication of this NOA in the Federal Register and will last for 30 days until October 7, 2024. Comments related to the FEIS must be received by the last day of the Wait Period (see ADDRESSES section of this NOA for how to submit comments). After the Wait Period, GSA will select an alternative and issue the Record of Decision (ROD).

ADDRESSES: Comments on the Alcan LPOE FEIS may be submitted by one of the following methods:

• Mail: U.S. General Services Administration, Attention: Aaron Evanson, Capital Project Manager, 1301 A Street, Suite 610, Tacoma, WA 98402.

• Email: AlcanLPOE@gsa.gov. Include “Alcan FEIS” in the subject line.

Comments sent by any other method or to any other address or individual may not be considered by GSA. All comments received are part of the public record. All personal identifying information (e.g., name, address, etc.), confidential business information, or otherwise sensitive information submitted voluntarily by the sender will be publicly accessible. GSA will accept anonymous comments.

FOR FURTHER INFORMATION CONTACT: Aaron Evanson, Capital Project Manager, AlcanLPOE@gsa.gov or 206-445-5876.

SUPPLEMENTARY INFORMATION: The Alcan LPOE is located at Milepost 1221.8 on the Alaska Highway, 0.43 miles from the U.S./Canada Border. The existing Alcan LPOE is owned and managed by GSA and is operated by the U.S. Department of Homeland Security's Customs and Border Protection (CBP). The Alcan LPOE is the only 24-hour port serving privately-owned vehicles (POVs) and commercial traffic between the Yukon Territory, Canada, and mainland Alaska. GSA is the lead agency for this EIS and the Native Village of Northway is a cooperating agency. Additional information and an electronic copy of the FEIS may be found at www.gsa.gov/alcan.

GSA proposes to build an expanded and modernized LPOE and new housing units at Alcan, Alaska, to replace the existing facilities. The FEIS describes the purpose and need for the proposed project, the alternatives considered, the existing environment that could be affected, the potential impacts resulting from each of the alternatives, and proposed best management practices and mitigation measures.

GSA evaluated two alternatives in the FEIS: (1) Alternative 1, which involves the construction of a new, expanded replacement LPOE at the existing LPOE site, and (2) the No Action Alternative, which assumes the existing LPOE would continue to operate under current conditions and the construction of a new or expanded LPOE would not occur. GSA's preferred alternative is Alternative 1, which is also the environmentally preferred alternative.

The purpose of the project is to provide an updated LPOE to support CBP's mission. Accomplishing this purpose would increase operational efficiency, effectiveness, security, sustainability, safety, and comfort for cross-border travelers and federal employees at the Alcan LPOE. The project is needed to update the current facilities which are over 50 years old and cannot effectively support CBP infrastructure, enforcement operations, public and employee safety, and housing needs.

GSA identified one action alternative that meets the stated purpose and need of the proposed project and thus has been analyzed in detail in the FEIS. Alternative 1 consists of expanding and modernizing the existing Alcan LPOE and would include: site preparation and grading; construction of a new Main LPOE Building, enclosed inspection vehicle spaces, new housing units with improved security measures, an indoor firing range, and a helicopter landing zone; and demolition of the existing LPOE structures. GSA would need authorization for use of up to 6.5 acres extending into the Tetlin NWR for the proposed helicopter landing zone.

All facility and infrastructure improvements proposed under Alternative 1 would incorporate a sustainable, climate-resilient, cyber-secure, and operationally efficient design. GSA would seek to meet or exceed energy and sustainability goals established by federal guidelines and policies, along with industry standard building codes and best practices.

There would be approximately 15 acres of temporary ground disturbance and 5 acres of permanent ground disturbance under Alternative 1. Approximately 5 acres would be used as a staging area during construction. There are currently 8 acres of impermeable surfaces at the LPOE; expansion and modernization would add approximately 4 acres of impervious surfaces. Given the seasonal constraints of construction work in Alaska, Alternative 1 would likely follow a six-year implementation timeline, which would be phased to avoid disruption to LPOE operations.

GSA also evaluated a No Action alternative, which assumes that expansion or modernization of the LPOE would not occur and that port operations would continue under current conditions. The No Action alternative does not meet the stated purpose and need of the proposed project.

The FEIS addresses the potential environmental impacts of the alternatives on environmental resources including land use; geology, topography, and soils; water resources; biological resources; cultural and tribal resources; environmental justice; socioeconomics; recreation; visual resources; noise and vibrations; solid and hazardous waste and materials; and climate change. Based on the analysis presented in the FEIS, which considered and incorporated input from the public comments received on the Draft EIS, impacts for all resource areas would be less-than-significant (i.e., negligible, minor, or moderate). Measures to reduce potential adverse effects are presented in the FEIS.

The FEIS was prepared in compliance with the NEPA, as amended (42 United States Code [U.S.C.] et seq.), which requires federal agencies to examine the impacts of their proposed projects or actions on the human and natural environment and consider alternatives to the proposal before deciding on taking an action. The FEIS complies with the 2020 Council on Environmental Quality (CEQ) NEPA regulations (40 Code of Federal Regulations [CFR] § 1500-1508), as modified by the Phase I 2022 revisions. The effective date of the 2022 revisions was May 20, 2022, and reviews that began after this date are required to apply the 2020 regulations as modified by the Phase I revisions unless there is a clear and fundamental conflict with an applicable statute. The EIS effort began on January 10, 2023, and accordingly proceeds under the 2020 regulations as modified by the Phase I revisions. In addition, the FEIS also complies with the GSA Public Buildings Service NEPA Desk Guide and other relevant federal and state laws and regulations and executive orders and integrates the consultation processes required under Section 106 of the National Historic Preservation Act and Section 7 of the Endangered Species Act with the NEPA process.

Anamarie Crawley,
Director, R10 Facilities Management Division Northwest/Arctic Region 10 U.S. General Services Administration.

[FR Doc. 2024-19122 Filed 9-5-24; 8:45 am]

BILLING CODE 6820-DL-P